DEPARTMENT OF THE INTERIOR

Bureau of Land Management

[OR-931-6320 HAG3-0055]

Notice of Availability of Draft Integrated Pest Management Program Environmental Impact Statement for the Horning Seed Orchard

AGENCY: Bureau of Land Management, Interior.

ACTION: Notice of Availability of the Draft Integrated Pest Management Environmental Impact Statement (EIS) for the Horning Seed Orchard.

SUMMARY: In accordance with Section 202 of the National Environmental Policy Act of 1969, a Draft Integrated Pest Management EIS has been prepared for the Bureau of Land Management's Horning Seed Orchard in the Bureau's Salem District. The Draft EIS describes and analyzes options for integrated pest management to control the insect, weed, animal, and disease problems at the orchard and to maintain healthy, vigorous crop trees for the production of seed and other vegetative materials used for reforestation and a variety of land management actions. Preparation of this EIS precedes a final decision regarding the selection of an integrated pest management alternative at Horning Seed Orchard

DATES: Written comments on the Draft EIS will be accepted for 60 days following the date the Environmental Protection Agency publishes the Notice of Availability in the Federal Register Written comments may also be presented at a public meeting/open house, which will be announced at least 15 days in advance through public notices, media news releases, and/or mailings.

ADDRESSES: Written comments on the document should be addressed to: Mr. Greg Tyler, Manager Horning Seed Orchard at 27004 Sheckly Road, Colton, OR 97017, or by fax at 503-630-6888, or by e-mail to orhsoipmeis@or.blm.gov. Copies will be available at all 13 city and county public libraries located in Clackamas County, OR, and on the BLM Salem District Web site at http://www.or.blm.gov/salem/html/planning/horning_ipm.htm. Copies will also be available from the Salem District Office, 1717 Fabry Road, SE, Salem, OR 97306; 503-375-5626. Public reading copies will be available for review at the following BLM locations: BLM Oregon State Office, Portland, OR; and BLM Office of Public Affairs, Washington, DC. Background information and maps used in developing the EIS are available at the Salem District Office and the Oregon State Office in Portland.

Pursuant to 7 CFR part 1, subpart B, § 1.27, all written and electronic submissions in response to this notice, public scoping letters, and draft and final Environmental Impact Statements will be made available for public inspection at the Salem District office (1717 Fabry Road SE, Salem, OR) during regular hours (7:30 a.m. to 4 p.m., Monday through Friday, except holidays) including the submitter's name and address, unless the submitter specifically requests confidentiality. If you wish to withhold your name or address from public review or from disclosure under the Freedom of Information Act, you must state this prominently at the beginning of your written comment. Such requests will be honored to the extent allowed by law. All submissions from organizations or businesses, submitted on official letterheads, and from individuals identifying themselves as representatives or officials of organizations or businesses, will be made available for public inspection in their entirety.

FOR FURTHER INFORMATION CONTACT: Mr. Greg Tyler, Manager Horning Seed Orchard at 27004 Sheckley Road, Colton, OR 97017, 503-630-8406, orhsoipmeis@or.blm.gov.

SUPPLEMENTARY INFORMATION: The draft EIS analyzes four action alternatives and the No Action alternative to manage pests at Horning Seed Orchard. The alternatives can be summarized as follows:

Alternative A—Maximum Production Integrated Pest Management. Pests would be managed using all identified biological, chemical, prescribed fire, cultural and other pest control methods, including aerial application of esfenvalerate by helicopter.

Alternative B—Integrated Pest Management with Environmental Protection Emphasis. Pests would be managed using all of the methods in Alternative A, with special restrictions to protect workers' health and safety and the environment. The restrictions are based on the results of the human health and ecological risk assessment, scoping comments, and anticipated consultation issues with the National Marine Fisheries Service under the Endangered Species Act.

Alternative C—Ground-Based Integrated Pest Management. This alternative is identical to Alternative B except for the exclusion of helicopter application.

Alternative D—Non-Chemical Pest Management. Pests would be managed using only the biological, prescribed fire, cultural, and other non-chemical pesticide methods listed under Alternative A. No chemical methods would be permitted.

Alternative E—No Action: Continuation of Current Management Approach. The current management system uses all non-chemical pest control practices at the seed orchard, as well as the use of limited chemicals on a specific case-by-case basis. All biological, prescribed fire, cultural, and other non-chemical pesticide methods would be available for use. When a specific need is identified for a chemical pesticide, the action would be reviewed to determine whether it is encompassed by an existing NEPA document, or whether an environmental assessment or EIS is required.

The preferred alternative is Alternative B.

Public participation has occurred throughout the NEPA process. Two Notices of Intent were filed in the Federal Register (FR) on March 26, 1999 (64 FR 14747) and March 29, 2001 (66 FR 17192). An open house, mail-outs, and a site visit also have been conducted to solicit comments and ideas. All comments presented throughout the process have been considered in developing the Draft EIS.

Denis Williamson,
District Manager.

[FR Doc. 03-14285 Filed 6-12-03; 8:45 am]

BILLING CODE 6320-HL-P